DEPARTMENT OF LABOR

Employment and Training Administration

[TA-W-50,777]

A.O. Smith, Electrical Products Company, Ripley, TN; Notice of Termination of Investigation

Pursuant to section 221 of the Trade Act of 1974, an investigation was initiated on February 4, 2003, in response to a petition filed by a company official on behalf of workers at A.O. Smith, Electrical Products Company, Ripley, Tennessee.

The petitioner has requested that the petition be withdrawn. Consequently, the investigation has been terminated.

Signed in Washington, DC this 17th day of March 2003.
Richard Church,
Certifying Officer, Division of Trade Adjustment Assistance.

[FR Doc. 03-7905 Filed 4-1-03; 8:45 am]

BILLING CODE 4510-30-U